DEPARTMENT OF TRANSPORTATION

Federal Aviation Administration

14 CFR Part 39

[Docket No. 2002-NM-61-AD]

RIN 2120-AA64

Airworthiness Directives; Airbus Model A319-113 and -114; and A320-111, -211, and -212 Series Airplanes

AGENCY: Federal Aviation Administration, DOT.

ACTION: Notice of proposed rulemaking (NPRM).

SUMMARY: This document proposes the adoption of a new airworthiness directive (AD) that is applicable to all Airbus Model A319-113 and -114; and A320-111, -211, and -212 series airplanes. This proposal would require either a review of airplane maintenance or delivery records, or one-time inspection of the hydraulic actuators located in the pivot doors of both thrust reversers to identify the part number, and eventual replacement of certain actuators with modified or new actuators. This action is necessary to prevent jamming of a thrust reverser door during operation, or inadvertent deployment of a thrust reverser door in-flight, which could result in reduced controllability of the airplane. This action is intended to address the identified unsafe condition.

DATES: Comments must be received by November 3, 2003.

ADDRESSES: Submit comments in triplicate to the Federal Aviation Administration (FAA), Transport Airplane Directorate, ANM-114, Attention: Rules Docket No. 2002-NM-61-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-61-AD” in the subject line and need not be submitted in triplicate. Comments sent via the Internet as attached electronic files must be formatted in Microsoft Word 97 or 2000 or ASCII text.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-61-AD.” The postcard will be date stamped and returned to the commenter.

Availability of NPRMs

Any person may obtain a copy of this NPRM by submitting a request to the FAA, Transport Airplane Directorate, ANM-114, Attention: Rules Docket No. 2002-NM-61-AD, 1601 Lind Avenue, SW., Renton, Washington 98055-4056.

Discussion

The Direction Générale de l'Aviation Civile (DGAC), which is the airworthiness authority for France, notified the FAA that an unsafe condition may exist on certain Airbus Model A319-113 and -114; and A320-111, -211, and -212 series airplanes. The DGAC advises that certain hydraulic actuators of the thrust reverser system failed endurance testing. Some of these actuators are in-service and may be approaching or may have already exceeded the life limits established during qualification. The use of actuators that have exceeded the established life limits, if not corrected, could result in jamming of the thrust reverser door during operation, or inadvertent deployment of a thrust reverser door in-flight, which could result in reduced controllability of the airplane.

Explanation of Relevant Service Information

Airbus has issued Service Bulletin A320-78-1020, including Appendix 01, dated March 28, 2001, which describes procedures for inspecting actuators located in the pivot doors of both thrust reversers to determine the part number, and replacing certain actuators with new or modified actuators. This service bulletin references Rohr CFM56-5A Service Bulletin RA32078-106, dated November 16, 2000, as an additional source of service information for accomplishment of the actuator modification. Accomplishment of the actions specified in the Airbus service bulletin is intended to adequately address the identified unsafe condition.

The DGAC classified the Airbus service bulletin as mandatory and issued French airworthiness directive 2001-361(B) R1, dated September 3, 2003, to ensure the continued airworthiness of these airplanes in France.

FAA's Conclusions

These airplane models are manufactured in France and are type certificated for operation in the United States under the provisions of § 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed AD

Since an unsafe condition has been identified that is likely to exist or develop on other airplanes of the same type design registered in the United States, the proposed AD would require accomplishment of the actions specified in the Airbus service bulletin described previously, except as discussed below.

Differences Between the Proposed AD and the French Airworthiness Directive

Operators should note that the parallel French airworthiness directive requires replacement of certain actuators within either 250 airplane flight cycles or 500 airplane flight cycles after the part number identification, depending on whether the actuator has accumulated more than 20,000 total flight cycles or fewer than 20,000 total flight cycles, respectively. However, after consultation with Airbus and the DGAC, the FAA has determined that these actuators can be safely operated up to 20,000 total flight cycles. Therefore, we find that accomplishment of the actuator replacement prior to the accumulation of 20,000 flight cycles, or within 250 flight cycles after identification of the part number, whichever occurs later, represents an appropriate interval of time allowable for affected airplanes to continue to operate without compromising safety. The DGAC has been notified of this difference.

Also, the French airworthiness directive specifies the replacement times for the actuators in terms of actuator flight cycles. Operators might not track actuator flight cycles; therefore, for the purposes of this proposed AD, if operators do not have a means of obtaining information regarding actuator flight cycles, engine flight cycles must be used.

Clarification of Applicability

Because operators can remove and install thrust reversers and engines on various airplanes in their fleet, this proposed AD would require either a review of airplane maintenance or delivery records, or a detailed inspection of the hydraulic actuators located in the pivot doors of the thrust reversers on all Airbus Model A319-113 and 114; and A320-111, -211, and -212 series airplanes, to ensure that all actuators are identified.

Cost Impact

The FAA estimates that 108 airplanes of U.S. registry would be affected by this proposed AD, that it would take approximately 8 work hours per airplane to accomplish the proposed inspection (1 hour per actuator × 4 actuators per thrust reverser × 2 thrust reversers per airplane), and that the average labor rate is $65 per work hour. Based on these figures, the cost impact of the proposed AD on U.S. operators is estimated to be $56,160, or $520 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus: Docket 2002-NM-61-AD.

Applicability: All Model A319-113 and -114; and A320-111, -211, and -212 series airplanes; certificated in any category.

Compliance: Required as indicated, unless accomplished previously.

To prevent jamming of the thrust reverser door during operation or inadvertent deployment of a thrust reverser door in-flight, which could result in reduced controllability of the airplane, accomplish the following:

Inspection and Follow-on Actions

(a) Within 500 airplane flight cycles after the effective date of this AD: Do a detailed inspection of the eight hydraulic actuators located in the pivot doors of the thrust reversers (one actuator per pivot door, four pivot doors per thrust reverser, two thrust reversers per airplane) to identify the part number (P/N) of each actuator, in accordance with Airbus Service Bulletin A320-78-1020, excluding Appendix 01, dated March 28, 2001. Instead of a detailed inspection of the hydraulic actuators, a review of airplane maintenance and delivery records is acceptable if the P/N of each actuator installed on the airplane can be positively determined from that review.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(1) For any actuator having P/Ns D23090000-1, D23090000-2, D23090000-3, or D23090000-4: Prior to the accumulation of 20,000 total actuator flight cycles, or within 250 airplane flight cycles after accomplishment of the detailed inspection or airplane records review required by paragraph (a) of this AD, whichever occurs later, replace the actuator with a modified or new actuator having part number D23090000-5 or D23090000-6, in accordance with the service bulletin.

(2) For any actuator having P/N D23090000-5: Prior to the accumulation of 30,000 total actuator flight cycles, or within 250 airplane flight cycles after the detailed inspection or airplane records review required by paragraph (a) of this AD, whichever occurs later, replace the actuator with a modified or new actuator having P/N D23090000-6, in accordance with the service bulletin.

(3) For any actuator having P/N D23090000-6: No further action is required by this paragraph.

Note 2: Airbus Service Bulletin A320-78-1020 references Rohr CFM56-5A Service Bulletin RA32078-106, dated November 16, 2000, as an additional source of service information for modification of the actuators.

(b) Once all of the actuators located in the pivot doors of the thrust reversers have P/N D23090000-6, no further action is required by paragraph (a) of this AD.

(c) For operators that do not track actuator flight cycles, or do not have a means of obtaining information regarding actuator flight cycles, engine flight cycles must be used instead of actuator flight cycles.

Parts Installation

(d) As of the effective date of this AD, no person shall install an actuator having P/N D23090000-1, D23090000-2, D23090000-3, or D23090000-4 on any airplane.

Submission of Inspection Results to Manufacturer Not Required

(e) Although the service bulletin referenced in this AD specifies to submit information to the manufacturer, this AD does not include such a requirement.

Alternative Methods of Compliance

(f) In accordance with 14 CFR 39.19, the Manager, International Branch, ANM-116, FAA, Transport Airplane Directorate, is authorized to approve alternative methods of compliance for this AD.

Note 3: The subject of this AD is addressed in French airworthiness directive 2001-361(B) R1, dated September 3, 2003.

Issued in Renton, Washington, on September 26, 2003.
Ali Bahrami,
Acting Manager, Transport Airplane Directorate, Aircraft Certification Service.

[FR Doc. 03-24973 Filed 10-1-03; 8:45 am]

BILLING CODE 4910-13-P